ENVIRONMENTAL PROTECTION AGENCY

40 CFR Parts 52 and 70

[EPA-R07-OAR-2005-IA-0006; FRL-8010-9]

Approval and Promulgation of Implementation Plans and Operating Permits Program; State of Iowa

AGENCY: Environmental Protection Agency (EPA).

ACTION: Direct final rule.

SUMMARY: EPA is approving the State Implementation Plan (SIP) revision submitted by the state of Iowa. This revision includes the general rulemaking that Iowa completes for the purpose of updating and clarifying various rules, and making other minor revisions as generally described in this document. EPA is also proposing approval of revisions to the Iowa Operating Permits Program for the purpose of updating and clarifying various rules included in the general rulemaking. These revisions add new definitions, as well as an administrative correction to a previously submitted rule. Approval of these revisions will ensure consistency between the state and Federally-approved rules, and ensure Federal enforceability of the State's revised air program rules.

DATES: This direct final rule will be effective February 21, 2006, without further notice, unless EPA receives adverse comment by January 19, 2006. If adverse comment is received, EPA will publish a timely withdrawal of the direct final rule in the Federal Register informing the public that the rule will not take effect.

ADDRESSES: Submit your comments, identified by Docket ID No. EPA-R07-OAR-2005-IA-0006, by one of the following methods:

1. http://www.regulations.gov. Follow the on-line instructions for submitting comments.

2. E-mail: Heather Hamilton at hamilton.heather@epa.gov.

3. Mail: Heather Hamilton, Environmental Protection Agency, Air Planning and Development Branch, 901 North 5th Street, Kansas City, Kansas 66101.

4. Hand Delivery or Courier. Deliver your comments to Heather Hamilton, Environmental Protection Agency, Air Planning and Development Branch, 901 North 5th Street, Kansas City, Kansas 66101.

Instructions: Direct your comments to Docket ID No. EPA-R07-OAR-2005-IA-0006. EPA's policy is that all comments received will be included in the public docket without change and may be made available online at http://www.regulations.gov, including any personal information provided, unless the comment includes information claimed to be Confidential Business Information (CBI) or other information whose disclosure is restricted by statute. Do not submit through www.regulations.gov or e-mail information that you consider to be CBI or otherwise protected. The www.regulations.gov Web site is an “anonymous access” system, which means EPA will not know your identity or contact information unless you provide it in the body of your comment. If you send an e-mail comment directly to EPA without going through www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the electronic docket are listed in the www.regulations.gov index. Although listed in the index, some information is not publicly available, i.e., CBI or other information whose disclosure is restricted by statute. Certain other material, such as copyrighted material, is not placed on the Internet and will be publicly available only in hard copy form. Publicly available docket materials are available either electronically in http://www.regulations.gov or in hard copy at the Environmental Protection Agency, Air Planning and Development Branch, 901 North 5th Street, Kansas City, Kansas 66101. The Regional Office's official hours of business are Monday through Friday, 8 to 4:30 excluding Federal holidays. The interested persons wanting to examine these documents should make an appointment with the office at least 24 hours in advance.

FOR FURTHER INFORMATION CONTACT: Heather Hamilton at (913) 551-7039, or by e-mail at hamilton.heather@epa.gov.

SUPPLEMENTARY INFORMATION: Throughout this document whenever “we,” “us,” or “our” is used, we mean EPA. This section provides additional information by addressing the following questions:

What Is a SIP?

What Is the Federal Approval Process for a SIP?

What Does Federal Approval of a State Regulation Mean to Me?

What Is the Part 70 Operating Permits Program?

What Is the Federal Approval Process for an Operating Permits Program?

What Is Being Addressed in This Document?

Have the Requirements for Approval of a SIP and a Part 70 Revision Been Met?

What Action is EPA Taking?

What Is a SIP?

Section 110 of the Clean Air Act (CAA) requires states to develop air pollution regulations and control strategies to ensure that state air quality meets the national ambient air quality standards established by EPA. These ambient standards are established under section 109 of the CAA, and they currently address six criteria pollutants. These pollutants are: carbon monoxide, nitrogen dioxide, ozone, lead, particulate matter, and sulfur dioxide.

Each state must submit these regulations and control strategies to us for approval and incorporation into the Federally-enforceable SIP.

Each Federally-approved SIP protects air quality primarily by addressing air pollution at its point of origin. These SIPs can be extensive, containing state regulations or other enforceable documents and supporting information such as emission inventories, monitoring networks, and modeling demonstrations.

What Is the Federal Approval Process for a SIP?

In order for state regulations to be incorporated into the Federally-enforceable SIP, states must formally adopt the regulations and control strategies consistent with state and Federal requirements. This process generally includes a public notice, public hearing, public comment period, and a formal adoption by a state-authorized rulemaking body.

Once a state rule, regulation, or control strategy is adopted, the state submits it to us for inclusion into the SIP. We must provide public notice and seek additional public comment regarding the proposed Federal action on the state submission. If adverse comments are received, they must be addressed prior to any final Federal action by us.

All state regulations and supporting information approved by EPA under section 110 of the CAA are incorporated into the Federally-approved SIP. Records of such SIP actions are maintained in the Code of Federal Regulations (CFR) at title 40, part 52, entitled “Approval and Promulgation of Implementation Plans.” The actual state regulations which are approved are not reproduced in their entirety in the CFR outright but are “incorporated by reference,” which means that we have approved a given state regulation with a specific effective date.

What Does Federal Approval of a State Regulation Mean to Me?

Enforcement of the state regulation before and after it is incorporated into the Federally-approved SIP is primarily a state responsibility. However, after the regulation is Federally approved, we are authorized to take enforcement action against violators. Citizens are also offered legal recourse to address violations as described in section 304 of the CAA.

What Is the Part 70 Operating Permits Program?

The CAA Amendments of 1990 require all states to develop operating permits programs that meet certain Federal criteria. In implementing this program, the states are to require certain sources of air pollution to obtain permits that contain all applicable requirements under the CAA. One purpose of the part 70 operating permits program is to improve enforcement by issuing each source a single permit that consolidates all of the applicable CAA requirements into a Federally-enforceable document. By consolidating all of the applicable requirements for a facility into one document, the source, the public, and the permitting authorities can more easily determine what CAA requirements apply and how compliance with those requirements is determined.

Sources required to obtain an operating permit under this program include “major” sources of air pollution and certain other sources specified in the CAA or in our implementing regulations. For example, all sources regulated under the acid rain program, regardless of size, must obtain permits. Examples of major sources include those that emit 100 tons per year or more of volatile organic compounds, carbon monoxide, lead, sulfur dioxide, nitrogen dioxide, or PM10; those that emit 10 tons per year of any single hazardous air pollutant (HAP) (specifically listed under the CAA); or those that emit 25 tons per year or more of a combination of HAPs.

Revision to the state and local agencies operating permits program are also subject to public notice, comment, and our approval.

What Is the Federal Approval Process for an Operating Permits Program?

In order for state regulations to be included in the Federally-enforceable Title V operating permits program, states must formally adopt regulations consistent with state and Federal requirements. This process generally includes a public notice, public hearing, public comment period, and a formal adoption by a state-authorized rulemaking body.

Once a state rule, regulation, or control strategy is adopted, the state submits it to us for inclusion into the approved operating permits program. We must provide public notice and seek additional public comment regarding the proposed Federal action on the state submission. If adverse comments are received, they must be addressed prior to any final Federal action by us.

All state regulations and supporting information approved by EPA under section 502 of the CAA, including revisions to the state program, are included in the Federally-approved operating permits program. Records of such actions are maintained in the CFR at Title 40, part 70, appendix A, entitled “Approval Status of State and Local Operating Permits Programs.”

What Is Being Addressed in This Document?

EPA is approving the State Implementation Plan (SIP) revisions submitted by the state of Iowa which include numerous minor revisions to various rules. The revisions consist of updating references to Federal rules, clarifying emissions reduction language to permits, providing notification of ownership for construction permits, adding definitions, amending variance language, and making minor revisions to the Compliance Sampling Manual. EPA is also approving a new rule into the SIP and Operating Permits Program at 567-22.209 to set forth information with regard to change of ownership for facilities with voluntary operating permits. EPA is approving revisions to the Iowa Operating Permits Program to update CFR references, and to update information with regard to submitting Title V permit applications.

Revisions to update the CFR references were made to Iowa Administrative Code (IAC) 567-22.1(1) “b” New or reconstructed major sources of hazardous air pollutants, and, 567-20.2 definition of “Volatile Organic Compound.”

Requirements with regard to control equipment which reduces or eliminates all emissions to the atmosphere (567-22.1(2) “g”) have been changed to state that a permit must be obtained requiring emission reductions before a source may take credit for the reductions. This revision further states that if a construction permit has been previously issued, all other conditions of the permit remain in effect.

The Compliance Sampling Manual is being revised to update procedures and to clarify and correct some of the existing language in the manual. References to the CFR within the Compliance Sampling Manual have also been updated with this change.

A revision to IAC 567-20.2, as it relates to open burning of untreated wood, adds a new definition of “untreated.” The definition relates to a rule that limits citizens from burning matter that is treated and adversely affects the environment. The definition does not relax the stringency of open burning restrictions, but helps to limit emissions of pollutants which may adversely affect air quality.

Additional definitions added at IAC 567-20.2 are as follows: “biodiesel fuel,” “diesel fuel,” “number 1 fuel oil,” and “number 2 fuel oil.” Included in the definitions are references to the American Society for Testing and Material Specifications and information with regard to the Environmental Protection Agency registration.

An amendment was made to the variance language as it relates to construction permits in IAC 567-21.2(3) “a.” This provision authorizes variances from state regulatory requirements for the limited purpose of testing alternative fuels. It does not allow variances from permitting requirements for sources subject to major source permitting requirements. The revision clearly states that the Iowa Department of Natural Resources (IDNR) may not grant variances for projects subject to certain Federal requirements. Although we believe that this limited variance provision for minor sources is acceptable, we note that variances from SIP requirements and minor source permit limits issued under SIPs are not recognized by EPA and do not change the underlying requirements unless approved by EPA as revisions to the SIP.

An amendment to 567-22.1(3) “b” revises references to the Iowa Code (542B.1, and 542B.26) that provides requirements for professional licensed engineers and corporation employees submitting construction permit applications to IDNR.

Clarification has been made to IAC 567-22.3(8) (Ownership change of permitted equipment) to include the accurate mailing address of the Air Quality Bureau, Iowa Department of Natural Resources.

The state of Iowa requested a revision to the Title V Operating Permits Program approved for state rule revisions updating CFR references to the definitions located at 567-22.100 as follows: EPA reference method, existing hazardous air pollutant sources, and hazardous air pollutant. Revisions to update CFR references were also made at 567-22.101(2) Title V deferred stationary sources, and 567-22.108(17) “a”(2), reopening of Title V permits.

A revision to 567-22.105(1), Duty to apply, was made to reduce the number of copies of Title V permit applications from four to three and to clarify where the applications should be sent.

The state submission also includes an updated incorporation by reference of EPA's Acid Rain regulations. The state rules, which were effective on July 13, 2005, are not a part of the SIP or the Operating Permits Program; and, therefore, we are not acting on this revision to the Acid Rain regulations.

On May 2, 2005, a rule was published to add a comma to IAC 567-22.3(3), Conditions of Approval. A comma was inserted between fuel specifications and compliance testing to differentiate between the two conditions. This was erroneously published as a Title V revision and is being corrected with this revision.

Have the Requirements for Approval of a SIP Revision and Title V Program Revision Been Met?

The state submittal has met the public notice requirements for SIP submissions in accordance with 40 CFR 51.102. The submittal also satisfied the completeness criteria of 40 CFR part 51, appendix V. In addition, as explained above and in more detail in the technical support document which is part of this document, the revision meets the substantive SIP requirements of the CAA, including section 110 and implementing regulations. This revision is also consistent with applicable EPA requirements in Title V of the Clean Air Act and 40 CFR part 70.

What Action Is EPA Taking?

This revision includes rules processed as “general rulemaking” that Iowa completes for the purpose of updating and clarifying various rules, and making other minor revisions as generally described in this document. Revisions to the Iowa Operating Permits Program for the purpose of updating and clarifying various rules are also included in this rulemaking. This revision adds new definitions, and a new rule that applies to change of ownership for facilities with voluntary operating permits. One administrative correction is being made to a previously submitted rule. EPA is revising the Iowa SIP and Title V operating permit programs by approving the state rule revisions.

We are processing this revision to the Iowa State Implementation Plan and Iowa Operating Permits as a direct final action because these revisions make routine changes to the existing rules which are noncontroversial. Therefore, we do not anticipate any adverse comments. Please note that if EPA receives adverse comment on part of this rule and if that part can be severed from the remainder of the rule, EPA may adopt as final those parts of the rule that are not the subject of an adverse comment.

Statutory and Executive Order Reviews

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Pub. L. 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have federalism implications because it does not have substantial direct effects on the States, on the relationship between the National Government and the States, or on the distribution of power and responsibilities among the various levels of government, as specified in Executive Order 13132 (64 FR 43255, August 10, 1999). This action merely approves a state rule implementing a Federal standard, and does not alter the relationship or the distribution of power and responsibilities established in the CAA. This rule also is not subject to Executive Order 13045, “Protection of Children from Environmental Health Risks and Safety Risks” (62 FR 19885, April 23, 1997), because it is not economically significant.

In reviewing state submissions, EPA's role is to approve state choices, provided that they meet the criteria of the CAA. In this context, in the absence of a prior existing requirement for the State to use voluntary consensus standards (VCS), EPA has no authority to disapprove a state submission for failure to use VCS. It would thus be inconsistent with applicable law for EPA, when it reviews a state submission, to use VCS in place of a state submission that otherwise satisfies the provisions of the CAA. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by February 21, 2006. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects

40 CFR Part 52

Environmental protection, Air pollution control, Carbon monoxide, Incorporation by reference, Intergovernmental relations, Lead, Nitrogen dioxide, Ozone, Particulate matter, Reporting and recordkeeping requirements, Sulfur oxides, Volatile organic compounds.

40 CFR Part 70

Administrative practice and procedure, Air pollution control, Intergovernmental relations, Operating permits, Reporting and recordkeeping requirements.

Dated: December 12, 2005.
James B. Gulliford,
Regional Administrator, Region 7.

Chapter I, title 40 of the Code of Federal Regulations is amended as follows:

PART 52—[AMENDED]

1. The authority citation for part 52 continues to read as follows:

Authority: 42 U.S.C. 7401 et seq.

Subpart Q—Iowa

2. In § 52.820 the table in paragraph (c) is amended by revising the entries for 567-20.2, 567-21.2, 567-22.1, 567-22.3, 567-22.300, and 567-25.1 and by adding an entry in numerical order for 567-22.209 to read as follows:

§ 52.820 Identification of plan.

* * * * *

(c) * * *

EPA—Approved Iowa Regulations
Iowa citation | Title | State effective date | EPA approval date | Explanation
Iowa Department of Natural Resources Environmental Protection Commission [567]
* * * * * * *
Chapter 20—Scope of Title—Definitions—Forms—Rules of Practice
* * * * * * *
567-20.2 | Definitions | 9/21/05 | 12/20/05 [insert FR page number where the document begins] | The definitions for anaerobic lagoon, odor, odorous substance, and odorous substance source are not SIP approved.
* * * * * * * ,
Chapter 21—Compliance
* * * * * * *
567-21.2 | Variances | 7/13/05 | 12/20/05 [insert FR page number where the document begins]
* * * * * * *
Chapter 22—Controlling Pollution
567-22.1 | Permits Required for New or Existing Stationary Sources | 7/13/05 | 12/20/05 [insert FR page number where the document begins] | Subrules 22.1(2) and 22.1(2) “i” have a state effective date of 5/23/01.
* * * * * * *
567-22.3 | Issuing Permits | 7/13/05 | 12/20/05 [insert FR page number where the document begins] | Subrule 22.3(6) is not SIP approved.
* * * * * * *
567-22.209 | Change of Ownership for Facilities with Voluntary Operating Permits | 7/13/05 | 12/20/05 [insert FR page number where the document begins]
567-22.300 | Operating Permit by Rule for Small Sources | 7/13/05 | 12/20/05 [insert FR page number where the document begins] | Subrule 22.300(7) “c” has a state effective date of 10/14/98.
* * * * * * *
Chapter 25—Measurement of Emissions
567-25.1 | Testing and Sampling of New and Existing Equipment | 7/13/05 | 12/20/05 [insert FR page number where the document begins]
* * * * * * *

* * * * *

PART 70—[AMENDED]

1. The authority citation for part 70 continues to read as follows:

Authority: 42 U.S.C. 7401 et seq.

Appendix A to Part 70—[Amended]

2. Appendix A to part 70 is amended by revising paragraph (h) under “Iowa” to read as follows:

Appendix A to Part 70—Approval Status of State and Local Operating Permits Programs

* * * * *

Iowa

* * * * *

(h) The Iowa Department of Natural Resources submitted for program approval rules 567-22.100, 567-22.101(2), 567-22.102, 567-22.105(1), 567-22.108(17)“a”(2), 567-22.209 and 567-22.300(12) on July 18, 2005. The state effective date was July 13, 2005. These revisions to the Iowa program are approved effective February 21, 2006.

* * * * *

[FR Doc. 05-24259 Filed 12-19-05; 8:45 am]

BILLING CODE 6560-50-P